ENVIRONMENTAL PROTECTION AGENCY

[RCRA-2003-0017; FRL-7640-5]

Agency Information Collection Activities; Submission to OMB Review and Approval; Comment Request; Hazardous Waste Specific Unit Requirements and Special Waste Processes and Types (Renewal), EPA ICR Number 1572.06, OMB Control Number 2050-0050

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on March 31, 2004. Under OMB regulations, the Agency may continue to conduct or sponsor the collection of information while this submission is pending at OMB. This ICR describes the nature of the information collection and its estimated burden and cost.

DATES: Additional comments may by submitted on or before May 6, 2004.

ADDRESSES: Submit your comments, referencing docket ID number RCRA-2003-0017, to (1) EPA online using EDOCKET (our preferred method), by email to rcra-docket@epa.gov, or by mail to: EPA Docket Center, Environmental Protection Agency, Resource Conservation and Recovery Act (RCRA) Docket, Mail Code 5305T, 1200 Pennsylvania Ave., NW., Washington, DC 20460, and (2) OMB at: Office of Information and Regulatory Affairs, Office of Management and Budget (OMB), Attention Desk Officer for EPA, 725 17th Street, NW., Washington, DC 20503.

FOR FURTHER INFORMATION CONTACT: Norma Abdul-Malik, Office of Solid Waste, Mail Code 5303W, Environmental Protection Agency, 1200 Pennsylvania Ave., NW., Washington, DC 20460; telephone number: (703) 308-8753; fax number: (703) 308-8638; email address: Abdul-Malik.Norma@epa.gov.

SUPPLEMENTARY INFORMATION: EPA has submitted the following ICR to OMB for review and approval according to the procedures prescribed in 5 CFR 1320.12. On August 20, 2003 (68 FR 50131), EPA sought comments on this ICR pursuant to 5 CFR 1320.8(d). EPA received no comments.

EPA has established a public docket for this ICR under Docket ID No. RCRA-2003-0017, which is available for public viewing at the RCRA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the RCRA Docket is (202) 566-0270. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB with 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Hazardous Waste Specific Unit Requirements and Special Waste Processes and Types (Renewal).

Abstract: This ICR covers the specific information collection and record keeping requirements set out in 40 CFR parts 261, 264, 265, and 266 for various hazardous waste treatment, storage, and disposal units. The units and processes covered are: tank systems; surface impoundments; waste piles; land treatment; landfills; incinerators; thermal treatment; chemical, physical, and biological treatment; miscellaneous units; drip pads; process vents; equipment leaks; containment buildings; and specific hazardous waste recovery/recycling facilities. The information and record keeping is necessary to comply with the statutory requirements to develop standards for hazardous waste treatment, storage, and disposal facilities to protect human health and the environment. The information is used by regulatory agencies to ensure compliance with the standards.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average the following burden hours per response.

| Reporting | Recordkeeping
Subpart I: Containers | 0 | 89-95
Subpart J: Tank Systems | 3 | 74-77
Subpart K: Surface Impoundments | 0-5 | 73-74
Subpart L: Waste Piles | 19 | 19
Subpart M: Land Treatment | 0 | 0
Subpart N: Landfills | 0-3 | 37-38
Subpart O: Incinerators | 0-1 | 3
Subpart W: Drip Pads | 0 | 34
Subpart X: Miscellaneous Units | 0 | 0
Subpart AA: Process Vents | 0-10 | 403-435
Subpart BB: Equipment Leaks | 1-6 | 45-46
Subpart DD: Containment Buildings | 1-3 | 27-28

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of hazardous waste management facilities.

Estimated Number of Respondents: 8,170.

Frequency of Responses: once every three years.

Estimated Total Annual Hour Burden: 669,476.

Estimated Total of Annual Cost: $44,237,000, includes $0 annual capital/startup costs, $4,329,000 annual O&M costs and $39,908,000 annual labor costs.

Changes in the Estimates: There is an increase of 382,407 hours in the total estimated burden currently identified in the OMB inventory of Approved ICR Burdens. This increase is due to more accurate data.

Dated: March 29, 2004.
Oscar Morales,
Director, Collection Strategies Division.

[FR Doc. 04-7778 Filed 4-5-04; 8:45 am]

BILLING CODE 6560-50-P